DEPARTMENT OF LABOR

Employment and Training Administration

[TA-W-81,637]

Horton Automatics, Inc., a Subsidiary of Overhead Door Corporation Including On-Site Leased Workers From Remedy Intelligent Staffing Corpus Christi, TX; Amended Certification Regarding Eligibility To Apply for Worker Adjustment Assistance

In accordance with Section 223 of the Trade Act of 1974, as amended (“Act”), 19 U.S.C. 2273, the Department of Labor issued a Certification of Eligibility to Apply for Worker Adjustment Assistance on June 15, 2012, applicable to workers of Horton Automatics, Inc., a subsidiary of Overhead Door Corporation, including on-site leased workers from Remedy Intelligent Staffing, Corpus Christi, Texas. The workers are engaged in activities related to the production of automatic sliding, swinging, and revolving doors. The notice was published in the Federal Register on July 2, 2012 (77 FR 9267).

At the request of the State agency, the Department reviewed the certification for workers of the subject firm. New information from the company, shows that the correct name of the subject firm in its' entirety should read Horton Automatics, Inc., a subsidiary of Overhead Door Corporation, including on-site leased workers from Remedy Intelligent Staffing, Corpus Christi, Texas.

Accordingly, the Department is amended this certification to correct the name of the subject firm to read Horton Automatics, Inc., a subsidiary of Overhead Door Corporation, including on-site leased workers from Remedy Intelligent Staffing, Corpus Christi, Texas.

The amended notice applicable to TA-W-81,637 is hereby issued as follows:

All workers from Horton Automatics, Inc., a subsidiary of Overhead Door Corporation, including on-site leased workers from Remedy Intelligent Staffing, Corpus Christi, Texas, who became totally or partially separated from employment on or after May 18, 2011, through June 15, 2014, and all workers in the group threatened with total or partial separation from employment on date of certification through two years from the date of certification, are eligible to apply for adjustment assistance under Chapter 2 of Title II of the Trade Act of 1074, as amended.

Signed at Washington, DC, this 13th day of August 2012.
Elliott S. Kushner,
Certifying Officer, Office of Trade Adjustment Assistance.

[FR Doc. 2012-21623 Filed 8-31-12; 8:45 am]

BILLING CODE 4510-FN-P